DEPARTMENT OF THE INTERIOR

National Park Service

[2280-665]

National Register of Historic Places; Notification of Pending Nominations and Related Actions

Nominations for the following properties being considered for listing or related actions in the National Register were received by the National Park Service before December 11, 2010. Pursuant to §§ 60.13 or 60.15 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by January 21, 2011.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Maricopa County

Bohn, Louis J. and Lee, Gertrude, House, (North Central Phoenix Farmhouses and Rural Estate Homes, 1895-1959) 750 E Northern Ave, Phoenix, 10001165

Conway, Colonel Edward Power, House, (North Central Phoenix Farmhouses and Rural Estate Homes, 1895-1959) 7625 N 10th St, Phoenix, 10001164

Diller, Adam, House, 8702 N 7th Ave, Phoenix, 10001163

England, Abner Elliot, House, (North Central Phoenix Farmhouses and Rural Estate Homes, 1895-1959) 6234 N Central Ave, Phoenix, 10001162

Halm, George M. and Howard, Mary Alverda, House, (North Central Phoenix Farmhouses and Rural Estate Homes, 1895-1959) 6850 North Central Ave, Phoenix, 10001161

Jacobs, Judge Fred C., House, (North Central Phoenix Farmhouses and Rural Estate Homes, 1895-1959) 6224 N Central Ave, Phoenix, 10001169

Morgan, David, House, (North Central Phoenix Farmhouses and Rural Estate Homes, 1895-1959) 8030 N Central Ave, Phoenix, 10001168

Smith, Walter Lee, House, (North Central Phoenix Farmhouses and Rural Estate Homes, 1895-1959) 7202 N 7th Ave, Phoenix, 10001167

Stubbs, Courtney and Hilda, House, (North Central Phoenix Farmhouses and Rural Estate Homes, 1895-1959) 1245 E Ocotillo Rd, Phoenix, 10001166

ARKANSAS

Arkansas County

Maxwell Street Bridge, (Historic Bridges of Arkansas MPS) Maxwell St, E of Jefferson St, DeWitt, 10001148

North Jackson Street Bridge, (Historic Bridges of Arkansas MPS) North Jackson St, over Holt Branch, DeWitt, 10001151

Desha County

McGehee City Jail, SW corner of S First St and Pine St, McGehee, 10001149

Missouri Pacific Railway Van Noy Eating House, SE of the Seamans Dr and Railroad St Intersection, McGehee, 10001154

Faulkner County

Administration Building, University of Central Arkansas, (New Deal Recovery Efforts in Arkansas MPS) 201 Donaghey Ave, Conway, 10001153

Johnson County

Union School, (Public Schools in the Ozarks MPS) N side of CR 4670, W of Little Piney Creek, Hagarville, 10001150

Lincoln County

Tracy, Charles Hampton, House, 2794 Blair Rd, Star City, 10001156

Searcy County

Henley Hotel, (Searcy County MPS) 112 HWY 65 N, St. Joe, 10001152

Sebastian County

Fort Chaffee Building 803, (World War II Home Front Efforts in Arkansas, MPS) 7313 Terry St, Fort Smith, 10001155

Jones Memorial Methodist Church, 400 E Main St, Hartford, 10001157

CALIFORNIA

San Diego County

PILOT (Pilot Boat), Maritime Museum of San Diego, 1492 N Harbor Dr, San Diego, 10001160

CONNECTICUT

Hartford County

Spring Grove Cemetery, 2035 Main St, Hartford, 10001158

IDAHO

Valley County

Landmark Ranger Station, Boise National Forest, Cascade, 10001179

LOUISIANA

Orleans Parish

Charity Hospital of New Orleans, 1532 Tulane Ave, New Orleans, 10001173

MARYLAND

Anne Arundel County

Burle's Town Land, (Providence, MD: Archeology of a Puritan—Quaker Settlement Near the Severn River MPS) Hidden Cove Rd, Annapolis, 10001147

MASSACHUSETTS

Franklin County

Wilder, Homestead, The, Ashfield Rd, Buckland, 10001178

NORTH CAROLINA

Rowan County

Eastover, 5510 S Main St, Salisbury, 10001176

Stanly County

Denning, Thomas Marcellus, House, 415 N Second St, Albermarle, 10001177

OREGON

Multnomah County

Jacobberger, Joseph, Country House, 5545 SW Sweetbriar St, Portland, 10001171

Wallowa County

Warnock, William P., House Boundary Increase, 501 S Fifth St, Enterprise, 10001170

UTAH

Kane County

Kanab Post Office, (Kanab, Utah MPS) 22 N Main St, Kanab, 10001175

Millard County

Fillmore American Legion Hall, 80 S Main St, Fillmore, 10001174

Salt Lake County

Pacific Northwest Pipeline Building, 315 E 200 S, Salt Lake City, 10001159

WYOMING

Converse County

Huxtable Ranch, The, (Ranches, Farms, and Homesteads in Wyoming, 1860-1960 MPS) 1351 Box Elder Rd, Glenrock, 10001172

Other Actions: Request for Removal has been made for the following resources:

ARKANSAS

Pulaski County

Hopkins—Grace House, 1310 S Summit St, Little Rock, 99000764

Young House, 436 Skyline Drive, North Little Rock, 92000559

[FR Doc. 2011-59 Filed 1-5-11; 8:45 am]

BILLING CODE 4312-51-P